DEPARTMENT OF AGRICULTURE

Forest Service

Boundary Establishment for North Fork Smith and Upper Rogue National Wild and Scenic Rivers, Rogue River-Siskiyou National Forest, Jackson, Douglas, Klamath, and Josephine Counties, OR

AGENCY: Forest Service, USDA.

ACTION: Notice of availability.

SUMMARY: On August 4, 2009, in accordance with 16 U.S.C. 127 1-1287 (section 3(b) of the Wild and Scenic Rivers Act), the USDA Forest Service, Washington Office, transmitted the final boundaries of the North Fork Smith and Upper Rogue National Wild and Scenic Rivers to Congress. As specified by law, the boundaries will not be effective until ninety days after Congress receives the transmittal.

FOR FURTHER INFORMATION CONTACT: Information may be obtained by contacting the Rogue River Siskiyou National Forest, P.O. Box 520, Medford, Oregon 97501, 541-858-2200.

SUPPLEMENTARY INFORMATION: The North Fork Smith and Upper Rogue National Wild and Scenic Rivers boundaries are available for review at the following offices: USDA Forest Service, Recreation, Yates Building, 14th and Independence Avenues, SW., Washington, DC 20024; USDA Forest Service, Pacific Northwest Region, 333 SW. 1st Ave., Portland, OR 97208; and, Rogue River-Siskiyou National Forest, 333 West 8th Street, Medford, Oregon.

The Omnibus Oregon Wild and Scenic Rivers Act of 1988 (Pub. L. 100-557) of October 28, 1988, designated the North Fork Smith and the Upper Rogue River, Oregon, as National Wild and Scenic Rivers, to be administered by the Secretary of Agriculture.

Dated: August 7, 2009.
Claire Lavendel,
Regional Director of Recreation, Lands and Minerals.

[FR Doc. E9-19512 Filed 8-17-09; 8:45 am]

BILLING CODE 3410-11-M